ENVIRONMENTAL PROTECTION AGENCY

40 CFR Part 63

[FRL-6882-3]

Approval of the Clean Air Act, Section 112(l), Authority for Hazardous Air Pollutants; Perchloroethylene Air Emission Standards for Dry Cleaning Facilities; State of Washington; Puget Sound Clean Air Agency

AGENCY: Environmental Protection Agency (EPA).

ACTION: Proposed rule.

SUMMARY: EPA proposes to approve Puget Sound Clean Air Agency's (Puget Sound Clean Air) request for approval to implement and enforce its Regulation III, section 3.03, Perchloroethylene Dry Cleaners in place of federal National Perchloroethylene Air Emission Standards for Dry Cleaning Facilities (“Drycleaning NESHAP”), as it applies to area sources. Approval of this request would make Puget Sound Clean Air's rules federally enforceable and would reduce the burden on area sources within Puget Sound Clean Air's jurisdiction such that they would only have one rule with which they must comply. Major sources would remain subject to the federal drycleaning NESHAP, as adopted into Puget Sound Clean Air Regulation III, section 2.02.

In the final rules section of this Federal Register, EPA is approving Puget Sound Clean Air's request as a direct final rule without prior proposal because the Agency views this as a noncontroversial action and anticipates no relevant adverse comments. A detailed rationale for the approval is set forth in the direct final rule. If no relevant adverse comments are received in response to this action, EPA will not take action on this proposed rule. If the EPA receives relevant adverse comments, EPA will withdraw the direct final rule and it will not take effect. EPA will then address all public comments received in a subsequent final rule based on this proposed rule. The EPA will not institute a second comment period on this action.

DATES: Written comments must be received by April 11, 2001.

ADDRESSES: Written comments should be mailed concurrently to the addresses below:

Doug Hardesty, U.S. Environmental Protection Agency, Region X, Office of Air Quality (OAQ-107), 1200 Sixth Avenue, Seattle, WA, 98101.

Dennis McLerran, Director, Puget Sound Clean Air Agency, 110 Union Street, Suite 500, Seattle, WA 98101.

Copies of the requests for approval are available for public inspection at EPA's Region X office during normal business hours.

FOR FURTHER INFORMATION CONTACT: Doug Hardesty, Office of Air Quality (OAQ-107), US EPA, Region X, 1200 Sixth Avenue, Seattle, WA 98101, (206) 553-6641.

SUPPLEMENTARY INFORMATION: For additional information see the direct final action which is published in the Rules section of this Federal Register.

Dated: August 2, 2000.
Charles E. Findley,
Acting Regional Administrator, Region X.

[FR Doc. 01-1344 Filed 3-9-01; 8:45 am]

BILLING CODE 6560-50-U